DEPARTMENT OF JUSTICE

Notice of Lodging of Proposed Consent Decree Under the Comprehensive Environmental Response, Compensation, and Liability Act (“Cercla”)

On November 9, 2022, the Department of Justice lodged a proposed consent decree with the United States District Court for the District of Rhode Island in the lawsuit entitled United States of America and Rhode Island Department of Environmental Management v. Aerosols Danville, Inc., et al., Civil Action No. 1:22-cv-405

The United States seeks performance of a remedial design/remedial action and reimbursement of response costs under Sections 106 and 107 of the Comprehensive Environmental Response, Compensation, and Liability Act (“CERCLA”) concerning Operable Unit 2 (“OU2”) of the Landfill & Resource Recovery, Inc. Superfund Site (“Site”), located in North Smithfield, Rhode Island. The State of Rhode Island Department of Environmental Management is co-plaintiff.

Under the proposed consent decree, 13 Settling Defendants agree to perform the remedial action for OU2 that is identified in the United States Environmental Protection Agency's (“EPA”) Record of Decision relating to the Site, dated April 2021. The proposed consent decree also requires the Settling Defendants to fully reimburse the State of Rhode Island for its future response costs and to reimburse the United States for a portion of its future Site-related response costs.

The publication of this notice opens a period for public comment on the proposed consent decree. Comments should be addressed to the Assistant Attorney General, Environment and Natural Resources Division, Environmental Enforcement Section, and should refer to United States of America and State of Rhode Island Department of Environmental Management v. Aerosols Danville, Inc., et al., Civil Action No. 1:22-cv-405, D.J. Ref. No. 90-11-2-449/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $69.50 (25 cents per page reproduction cost) payable to the United States Treasury.

Henry S. Friedman,
Assistant Section Chief, Environmental Enforcement Section, Environment and Natural Resources Division.

[FR Doc. 2022-24881 Filed 11-15-22; 8:45 am]

BILLING CODE P